DEPARTMENT OF COMMERCE

National Oceanic and Atmospheric Administration

50 CFR Part 665

RIN 0648-BK66

Pacific Island Fisheries; Amendment 6 to the Fishery Ecosystem Plan for the Mariana Archipelago; Rebuilding Plan for Guam Bottomfish

AGENCY: National Marine Fisheries Service (NMFS), National Oceanic and Atmospheric Administration (NOAA), Commerce.

ACTION: Notice of availability of fishery ecosystem plan amendment; request for comments.

SUMMARY: NMFS announces that the Western Pacific Fishery Management Council (Council) proposes to amend the Fishery Ecosystem Plan for the Mariana Archipelago (FEP). If approved, Amendment 6 would establish a rebuilding plan for the Guam bottomfish stock complex. The Council recommended Amendment 6 to rebuild the Guam bottomfish stock, which is overfished.

DATES: NMFS must receive comments on Amendment 6 by January 14, 2022.

ADDRESSES: You may submit comments on this document, identified by NOAA-NMFS-2021-0104, by either of the following methods:

• Electronic Submission: Submit all electronic public comments via the Federal e-Rulemaking Portal. Go to http://www.regulations.gov and enter NOAA-NMFS-2021-0104 in the Search box, click the “Comment Now!” icon, complete the required fields, and enter or attach your comments.

• Mail: Send written comments to Michael D. Tosatto, Regional Administrator, NMFS Pacific Islands Region (PIR), 1845 Wasp Blvd., Bldg. 176, Honolulu, HI 96818.

Instructions: NMFS may not consider comments sent by any other method, to any other address or individual, or received after the end of the comment period. All comments received are a part of the public record, and NMFS will generally post them for public viewing on www.regulations.gov without change. All personal identifying information (e.g., name, address, etc.), confidential business information, or otherwise sensitive information submitted voluntarily by the sender will be publicly accessible. NMFS will accept anonymous comments (enter “N/A” in the required fields if you wish to remain anonymous).

Amendment 6 includes a draft environmental assessment (EA) that analyzes the potential impacts of the proposed action and alternatives considered. Copies of Amendment 6, including the draft EA and Regulatory Impact Review (RIR), and other supporting documents are available at www.regulations.gov or the Council, 1164 Bishop St., Suite 1400, Honolulu, HI 96813, tel 808-522-8220, fax 808-522-8226, www.wpcouncil.org.

FOR FURTHER INFORMATION CONTACT: Kate Taylor, Sustainable Fisheries, NMFS PIR, 808-725-5182.

SUPPLEMENTARY INFORMATION: NMFS and the Council manage the Guam bottomfish fishery under the FEP and implementing regulations. The Guam fishery harvests 11 species of emperors, snappers, groupers, and jacks. There are more than 300 participants in the fishery. Most (73.6 percent) of the bottomfish habitat is in territorial waters, with the rest in Federal waters around offshore banks to the northeast and southwest of Guam. Fishing is mostly from vessels less than 25 ft (7.6 m) in length close to shore, targeting shallow-water species for recreational, subsistence, and small-scale commercial purposes. A few larger vessels make trips to offshore banks to harvest deepwater species primarily for commercial purposes.

Since 2001, the fishery landed between 11,711 (5,312 kg) and 54,062 lb (24,522 kg) annually. The most recent 3 year average (2018-2020) Guam bottomfish catch (from both Federal and territorial waters) was 27,306 lb (12,386 kg), and the fishery landed 18,933 lb (8,588 kg) in 2020. Although bottomfish have accounted for only 10-15 percent of Guam's boat-based fish harvest, bottomfish hold fundamental dietary and cultural importance for the people of Guam. Federal waters around Guam remain important for the harvest of deepwater snappers at offshore banks to provide locally sourced bottomfish.

On February 10, 2020, NMFS notified the Council that the Guam bottomfish stock complex was overfished, but not subject to overfishing (85 FR 26940, May 6, 2020). Consistent with Section 304(e) of the Magnuson-Stevens Fishery Conservation and Management Act (Magnuson-Stevens Act) and implementing regulations at 50 CFR 600.310(j), the Council must prepare, and NMFS must implement a rebuilding plan within two years of the notification. If approved, Amendment 6 would implement a rebuilding plan for the Guam bottomfish stock complex that consists of an annual catch limit (ACL) and two accountability measures (AM). We would set the ACL 31,000 lb (14,061 kg) starting in 2022, and catches from both territorial and Federal waters around Guam would count toward the ACL. The fishing year is the calendar year.

As an in-season AM, if NMFS projects that the fishery will reach the ACL in any year, then we would close the fishery in Federal waters for the remainder of that year. As an additional AM, if subsequent analyses indicate that the fishery exceeded the ACL during a year, we would close the fishery in Federal waters until NMFS and the Territory of Guam implement a coordinated management regime to ensure that the catch in both Federal and territorial waters is maintained at levels that allow the stock to rebuild. The rebuilding plan would remain in place until NMFS determines that the stock complex is rebuilt, which is expected to take eight years. NMFS and the Council would review the rebuilding plan every two years and amend it, as necessary.

NMFS must receive comments on Amendment 6 by January 14, 2022 for consideration in the decision to approve, partially approve, or disapprove the amendment. Concurrent with NMFS's review of the amendment under the Magnuson-Stevens Act procedures, NMFS expects to publish in the Federal Register and request public comment on a proposed rule to implement the draft measures described in Amendment 6.

Authority: 16 U.S.C. 1801 et seq.

Dated: November 9, 2021.
Ngagne Jafnar Gueye,
Acting Director, Office of Sustainable Fisheries, National Marine Fisheries Service.

[FR Doc. 2021-24837 Filed 11-9-21; 4:15 pm]

BILLING CODE 3510-22-P